DEPARTMENT OF LABOR

Employment and Training Administration

[TA-W-91,641]

General Electric Company, d/b/a GE Capacitor and Power Quality Products, Energy Connections Division, Fort Edward, New York; Notice of Revised Determination on Reconsideration

On September 7, 2016, the Department of Labor issued an Affirmative Determination Regarding Application for Reconsideration for the workers and former workers of General Electric Company, d/b/a GE Capacitor and Power Quality Products, Energy Connections Division, Fort Edward, New York (hereafter referred to as “GE-Fort Edward” or “the subject firm”). The subject firm is engaged in activities related to the production of capacitors. The subject worker group does not include on-site leased workers. Workers of the subject firm were previously certified eligible to apply for Trade Adjustment Assistance under TA-W-85,071 (certification expired on May 29, 2016).

Based on new information provided during the reconsideration investigation, the Department determines that the worker group at GE-Fort Edward has met the worker group eligibility criteria set forth in the Trade Act of 1974, as amended.

Section 222(a)(1) has been met because a significant number or proportion of the workers in GE-Fort Edward have become totally or partially separated, or are threatened to become totally or partially separated.

Section 222(a)(2)(B) has been met because the workers' firm has shifted to a foreign country a portion of the production of capacitors like or directly competitive with those produced by the workers which contributed importantly to worker group separations at GE-Fort Edward.

Conclusion

After careful review of the additional facts obtained on reconsideration, I determine that workers of GE-Fort Edward, who were engaged in employment related to production of capacitors, meet the worker group certification criteria under Section 222(a) of the Act, 19 U.S.C. 2272(a). In accordance with Section 223 of the Act, 19 U.S.C. 2273, I make the following certification:

All workers of General Electric Company, d/b/a GE Capacitor and Power Quality Products, Energy Connections Division, Fort Edward, New York, who became totally or partially separated from employment on or after May 30, 2016, through two years from the date of this certification, and all workers in the group threatened with total or partial separation from employment on date of certification through two years from the date of certification, are eligible to apply for adjustment assistance under Chapter 2 of Title II of the Trade Act of 1974, as amended.

Signed in Washington, DC, this 31st day of October 2016.
Del Min Amy Chen,
Certifying Officer, Office of Trade Adjustment Assistance.

[FR Doc. 2016-31971 Filed 1-4-17; 8:45 am]

BILLING CODE 4510-FN-P